DEPARTMENT OF TRANSPORTATION

Federal Aviation Administration

14 CFR Part 39

[Docket No. 2002-NM-228-AD]

RIN 2120-AA64

Airworthiness Directives; Airbus Model A330 and A340 Series Airplanes

AGENCY: Federal Aviation Administration, DOT.

ACTION: Notice of proposed rulemaking (NPRM).

SUMMARY: This document proposes the supersedure of an existing airworthiness directive (AD), applicable to certain Airbus Model A330 and A340 series airplanes, that currently requires revising the Limitations Section of the airplane flight manual to ensure that the flightcrew is advised of the proper procedures in the event of uncommanded movement of a spoiler during flight. This action would add inspections of the function of the pressure relief valves of each spoiler servo control (SSC), and corrective action if necessary. This action also would mandate eventual modification of the SSCs, which would terminate the AFM revision in the existing AD. Uncommanded movement of a spoiler during flight could result in reduced controllability of the airplane, and consequent significant increased fuel consumption during flight, which could necessitate an in-flight turn-back or diversion to an unscheduled airport destination. This action is intended to address the identified unsafe condition.

DATES: Comments must be received by May 3, 2004.

ADDRESSES: Submit comments in triplicate to the Federal Aviation Administration (FAA), Transport Airplane Directorate, ANM-114, Attention: Rules Docket No. 2002-NM-228-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-228-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-228-AD.” The postcard will be date stamped and returned to the commenter.

Availability of NPRMs

Any person may obtain a copy of this NPRM by submitting a request to the FAA, Transport Airplane Directorate, ANM-114, Attention: Rules Docket No. 2002-NM-228-AD, 1601 Lind Avenue, SW., Renton, Washington 98055-4056.

Discussion

On August 7, 2002, the FAA issued AD 2002-16-12, amendment 39-12851 (67 FR 53478, August 16, 2002), applicable to certain Airbus Model A330 and A340 series airplanes, to require revising the Limitations Section of the airplane flight manual to ensure that the flightcrew is advised of the proper procedures in the event of uncommanded movement of a spoiler during flight. That action was prompted by several reports of incidents where a spoiler servo control (SSC) was not locked in the retracted position during flight. Such uncommanded movement could result in reduced controllability of the airplane, and consequent significant increased fuel consumption during flight, which could necessitate an in-flight turn-back or diversion to an unscheduled airport destination.

Actions Since Issuance of Previous Rule

The preamble to AD 2002-16-12 explains that we consider the requirements “interim action” and are considering further rulemaking. We now have determined that further rulemaking is indeed necessary, and this proposed AD follows from that determination.

In addition, the Direction Générale de l'Aviation Civile (DGAC), which is the airworthiness authority for France, was notified that the incidents that prompted the existing AD (where a SSC was not locked in the retracted position during flight) were caused by the loosening of an insert screw of the pressure relief valve (PRV) located in the SSC. Further inspections revealed two additional loose insert screws; therefore, the DGAC has mandated an inspection program and terminating modification.

Explanation of Relevant Service Information

Airbus has issued the following service bulletins:

Service bulletin | Revision level | Date | Affected models
A330-27-3090 | 02 | August 1, 2002 | A330
A330-27-3094 | 01 | August 1, 2002 | A330
A340-27-4096 | 02 | August 1, 2002 | A340
A340-27-4100 | 01 | August 1, 2002 | A340

Service Bulletins A330-27-3090 and A340-27-4096 describe procedures for inspections and checks of the function of the PRV of each SSC, and corrective action if necessary. The actions include checking for correct locking of the SSC and, if any movement is possible, replacing the SSC with a modified or exchange unit, and adjustment of the spoiler. The service bulletins also describe procedures for an operational test and specify reporting inspection results to Airbus. These service bulletins reference Liebherr Service Bulletin 1386A-27-03, Revision 1, dated February 4, 2002, as an additional source of service information for accomplishment of the inspections.

Service Bulletins A330-27-3094 and A340-27-4100 describe procedures for modification of the SSCs. The modification includes checking the identification plates of the SSCs for certain part numbers, and if the identification plates are missing, checking for the location of the SSC to determine if the SSC is affected. If the SSC is affected, the procedures involve removing and inspecting the PRV and installing a new, improved PRV in the SSC. If the PRV screw is detached, or the SSC does not lock in place correctly, the procedures involve replacing the SSC with a modified or exchange unit. The service bulletins also describe procedures for an operational test following the modification, which includes checking for correct locking of the SSCs, replacement of the SSC with a modified or exchange unit if any movement is detected, and a visual inspection for leakage and repair of any leakage found. Accomplishment of the modification eliminates the need for the AFM revision. These service bulletins reference Liebherr Service Bulletin 1386A-27-05, dated February 25, 2002, as an additional source of service information for accomplishment of the modification.

The DGAC classified the Airbus service information as mandatory and issued French airworthiness directives 2002-552(B) and 2002-553(B), both dated November 13, 2002; to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2002-16-12 to continue to require revising the Limitations Section of the airplane flight manual to ensure the flightcrew is advised of the proper procedures in the event of uncommanded movement of a spoiler during flight. The proposed AD also would require inspections and checks of the function of the pressure relief valves of each SSC, and corrective action if necessary. The proposed AD would also mandate eventual modification of the SSCs, which would terminate the AFM revision in the existing AD. The actions would be required to be accomplished in accordance with the Airbus service information described previously, except as discussed below.

Differences Between Airbus Service Bulletins and This Proposed AD

Service Bulletins A330-27-3090 and A340-27-4096 specify submitting the inspection results to the manufacturer, but this proposed AD does not include such a requirement.

Service Bulletins A330-27-3090 and A340-27-4096 refer to an “inspection” of the function of the pressure relief valve of the SSC. We have determined that the procedures in the service bulletins refer to a “detailed inspection.” Note 2 has been included in this proposed AD to define this type of inspection.

Work Hour Rate Increase

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 14 airplanes of U.S. registry that would be affected by this proposed AD.

The AFM revision that is currently required by AD 2002-16-12 takes about 1 work hour per airplane to accomplish, at an average labor rate of $65 per work hour. Based on these figures, the cost impact of the currently required actions on U.S. operators is estimated to be $65 per airplane.

The new inspections/checks that are proposed in this AD action would take about 1 work hour per airplane to accomplish, at an average labor rate of $65 per work hour. Based on these figures, the cost impact of these proposed inspections/checks of this AD on U.S. operators is estimated to be $910, or $65 per airplane, per inspection/check cycle.

The new modification that is proposed in this AD action would take about 15 work hours per airplane to accomplish, at an average labor rate of $65 per work hour. Required parts would be provided to operators free of charge. Based on these figures, the cost impact of the proposed modification of this AD on U.S. operators is estimated to be $13,650, or $975 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Model A340 series airplanes on the U.S. Register. However, if an affected airplane is imported and placed on the U.S. Register in the future, the new inspections/checks proposed in this AD action would take about 1 work hour, at an average labor rate of $65 per work hour. Based on these figures, we estimate the cost of the inspections/checks to be $65 per airplane, per inspection/check cycle. The new modification that is proposed in this AD action would take about 15 work hours per airplane to accomplish, at an average labor rate of $65 per work hour. Required parts would be provided to operators free of charge. Based on these figures, we estimate the cost of this modification to be $975 per airplane.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12851 (67 FR 53478, August 16, 2002), and by adding a new airworthiness directive (AD), to read as follows:

Airbus: Docket 2002-NM-228-AD. Supersedes AD 2002-16-12, Amendment 39-12851.

Applicability: Model A330 and A340 series airplanes, certificated in any category; equipped with any spoiler servo control having part number (P/N) 1386A0000-01 or 1386B0000-01, or P/N 1387A0000-01 or 1387B0000-01.

Compliance: Required as indicated, unless accomplished previously.

To ensure that the flightcrew is advised of the proper procedures in the event of uncommanded movement of a spoiler during flight, which could result in reduced controllability of the airplane and consequent significant increased fuel consumption during flight, and could result in an in-flight turn-back or diversion to an unscheduled airport destination, accomplish the following:

Restatement of Requirements of AD 2002-16-12

Revision to Airplane Flight Manual (AFM)

(a) Within 10 days after September 20, 2002 (the effective date of AD 2002-16-12, amendment 39-12851), revise the Limitations Section of the airplane flight manual (AFM) by including the procedures listed in Figure 1 of this AD. This revision may be done by inserting a copy of the following Figure 1 into the AFM:

BILLING CODE 4910-13-P

BILLING CODE 4910-13-C

Note 1: When the procedure in paragraph (a) of this AD has been incorporated into the general revisions of the AFM, the general revisions may be incorporated into the AFM, provided the procedures in this AD and the general revisions are identical. This AD may then be removed from the AFM.

New Requirements of This AD

Initial Detailed Inspection/Functional Check

(b) Within 700 flight hours after the effective date of this AD: Do a detailed inspection/functional check of the blocking function of the pressure relief valves (PRVs) of affected spoiler servo controls (SSCs) by doing all the actions per paragraphs 3.A., 3.B.(1)(a), 3.D., and 3.E. of the Accomplishment Instructions of Airbus Service Bulletin A330-27-3090 (for A330 series airplanes) or A340-27-4096 (for A340 series airplanes), both Revision 02, both dated August 1, 2002; as applicable.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Liebherr Service Bulletin 1386A-27-03, Revision 1, dated February 4, 2002, is referenced in Airbus Service Bulletins A330-27-3090 and A340-27-4096 as an additional source of service information for accomplishment of the inspections.

Corrective Action

(c) If any malfunction is found on any affected SSC during the inspection/functional check required by paragraph (b) of this AD, before further flight, do the terminating action required by paragraph (e) of this AD for the affected SSC only. Repeat the inspection/functional check of the functioning SSCs one time within 1,600 flight hours after accomplishment of the initial inspection required by paragraph (b) of this AD. If no malfunction is found, repeat the inspection/functional check thereafter at intervals not to exceed 2,400 flight hours, until accomplishment of the terminating action required by paragraph (e) of this AD for the remaining SSCs.

(d) If no malfunction is found on any affected SSC during the inspection/functional check required by paragraph (b) of this AD, repeat the inspection/functional check one time within 1,600 flight hours after accomplishment of the initial inspection required by paragraph (b) of this AD. If no malfunction is found, repeat the inspection/functional check thereafter at intervals not to exceed 2,400 flight hours, until accomplishment of the terminating action required by paragraph (e) of this AD.

Terminating Action

(e) Except as required by paragraph (c) of this AD: Within 13 months after the effective date of this AD, modify all affected SSCs by doing all the actions per the Accomplishment Instructions of Airbus Service Bulletin A330-27-3094 (for A330 series airplanes) or A340-27-4100 (for A340 series airplanes), both Revision 01, both dated August 1, 2002; as applicable. Modification of all affected SSCs terminates the requirements of paragraphs (a), (b), (c), and (d) of this AD. After the modification has been done, the previously required AFM revision may be removed.

Note 4: Liebherr Service Bulletin 1386A-27-05, dated February 25, 2002, is referenced in Airbus Service Bulletins A330-27-3094 and A340-27-4100 as an additional source of service information for accomplishment of the modification.

Previously Accomplished Actions

(f) Accomplishment of the inspections per Airbus Service Bulletins A330-27-3090 and A340-27-4096, both dated September 28, 2001; or A330-27-3090 and A340-27-4096, both Revision 01, both dated December 12, 2001; as applicable; is considered acceptable for compliance with the inspections required by this AD. Accomplishment of the modification per Airbus Service Bulletins A330-27-3094 and A340-27-4100, both dated May 21, 2002; as applicable; is considered acceptable for compliance with the modification required by this AD.

(g) Airbus Service Bulletins A330-27-3090 and A340-27-4096, both dated August 1, 2002, specify to submit inspection results to the manufacturer, however; this AD does not include such a requirement.

Parts Installation

(h) As of the effective date of this AD, no person may install on any airplane a spoiler servo control having P/N 1386A0000-01, 1386B0000-01, 1387A0000-01, or 1387B0000-01, unless it has been modified per paragraph (e) of this AD.

Alternative Methods of Compliance

(i) In accordance with 14 CFR 39.19, the Manager, International Branch, ANM-116, FAA, Transport Airplane Directorate, is authorized to approve alternative methods of compliance for this AD.

Note 5: The subject of this AD is addressed in French airworthiness directives 2002-552(B) and 2002-553(B), both dated November 13, 2002.

Issued in Renton, Washington, on March 19, 2004.
Kevin M. Mullin,
Acting Manager, Transport Airplane Directorate, Aircraft Certification Service.

[FR Doc. 04-7356 Filed 3-31-04; 8:45 am]

BILLING CODE 4910-13-P